DEPARTMENT OF TRANSPORTATION

Federal Highway Administration

[Docket No. FHWA-2013-0011]

Agency Information Collection Activities: Request for Comments for a New Information Collection.

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by May 21, 2013.

ADDRESSES: You may submit comments identified by DOT Docket ID 2013-0011 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Shane D. Boone, business phone: 202-493-3064, Nondestructive Evaluation Research Program, Federal Highway Administration, Department of Transportation, 6300 Georgetown Pike, McLean, VA 22101. Office hours are from 8 a.m. to 5 p.m., Monday through Friday, except Federal holidays.

SUPPLEMENTARY INFORMATION: Title: Feasibility of Element-Level Bridge Inspection for Non-National Highway System Bridges.

Background: The “Moving Ahead for Progress in the 21st Century Act” or the “MAP-21” legislation, Section 1111, modified 23 U.S.C. 144 to include a requirement for each State and appropriate Federal agency to report element level bridge inspection data to the Secretary, as each bridge is inspected, for all highway bridges on the National Highway System (NHS). The data is to be reported to the Federal Highway Administration (FHWA) not later than 2 years after the date of enactment of MAP-21. Additionally, MAP-21 included a requirement for a study on the benefits, cost-effectiveness, and feasibility of requiring element level data collection for bridges not on the NHS. The goal of this project shall be to complete a study of the benefits, cost-effectiveness, and feasibility of requiring element-level bridge inspection data collection for bridges not on the National Highway System. A proposed methodology for completing this research shall be established through outreach to key stakeholders. The methodology is to also define the types of analyses to be used to evaluate benefits, cost-effectiveness and feasibility.

Respondents: State transportation agencies, Association of State Highway and Transportation Officials (AASHTO), National Association of County Engineers (NACE), toll authorities (state, local, private), FHWA Offices of Policy, Bridge Technology, and selected FHWA Divisions and other Federal bridge-owning agencies, and selected individual local agencies. Specific AASHTO subcommittees to be contacted include the Subcommittee on Bridges and Structures and the Subcommittee on Maintenance.

Frequency: One time per participant.

Estimated Average Burden per Response: Approximately 2 hours to collect the necessary information and write a response.

Estimated Total Annual Burden Hours: Approximately 200 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: March 15, 2013.
Michael Howell,
Information Collection Officer.

[FR Doc. 2013-06619 Filed 3-21-13; 8:45 am]

BILLING CODE 4910-22-P